DEPARTMENT OF ENERGY

Federal Energy Regulatory Commission

[Docket No. ER99-3144-005 and Docket No. EC99-80-005 (not consolidated)]

American Electric Power Service Corporation on behalf of: Appalachian Power Company, Columbus Southern Power Company, Indiana Michigan Power Company, Kentucky Power Company, Kingsport Power Company, Ohio Power Company, Wheeling Power Company, Consumers Energy Company and the Detroit Edison Company; FirstEnergy Corp. on Behalf of: The Cleveland Electric Illuminating Company, Ohio Edison Company, Pennsylvania Power Company, the Toledo Edison Company and Virginia Electric and Power Company; Notice of Filing

October 4, 2000.

Take notice that on September 22, 2000, Alliance Companies filed an errata to its compliance filing that was submitted on September 15, 2000 in Docket Nos. ER99-3144-004 and EC99-80-004.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 13, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-26048 Filed 10-10-00; 8:45 am]

BILLING CODE 6717-01-M